DEPARTMENT OF HEALTH AND HUMAN SERVICES

Centers for Disease Control and Prevention

Amended Order Implementing Presidential Proclamation on Advancing the Safe Resumption of Global Travel During the COVID-19 Pandemic

AGENCY: Centers for Disease Control and Prevention (CDC), Department of Health and Human Services (HHS).

ACTION: Notice of Agency Amended Order.

SUMMARY: The Centers for Disease Control and Prevention (CDC), located within the Department of Health and Human Services (HHS), has amended its Order issued October 20, 2021, to align with revised CDC guidance published on January 4, 2022, related to isolation and quarantine after travel.

DATES: This Amended Order will be implemented at 12:01 a.m. EDT on April 14, 2022.

FOR FURTHER INFORMATION CONTACT: Candice Swartwood, Division of Global Migration and Quarantine, Centers for Disease Control and Prevention, 1600 Clifton Road NE, MS H24-8, Atlanta, GA 30329; Telephone: 404-498-1600; Email: dgmqpolicyoffice@cdc.gov.

SUPPLEMENTARY INFORMATION: On October 25, 2021, the President issued a Proclamation pursuant to Sections 1182(f) and 1185(a)(1) of Title 8, and Section 301 of Title 3, United States Code (the Proclamation) titled, “Advancing the Safe Resumption of Global Travel During the COVID-19 Pandemic.” Pursuant to this Proclamation, the President has implemented a global suspension and limitation on entry for noncitizens who are nonimmigrants seeking to enter the United States by air travel and who are not fully vaccinated against COVID-19. The Proclamation directs the Secretary of HHS, through the CDC Director, to implement the Proclamation as it applies to public health in accordance with appropriate public health protocols and consistent with CDC's independent public health judgment. The Proclamation does not apply to crew members of airlines or other aircraft operators if they follow industry standard protocols for the prevention of COVID-19.

In this notice, CDC announces an Amended Order that revises some of the post-arrival requirements for certain people eligible for an exception to the vaccination requirement to travel to the United States. The Amended Order reduces the number of days for such persons to self-quarantine after international travel from seven days to five days. The number of days for isolation for those who are diagnosed with COVID-19 or have COVID-19 symptoms is also reduced from 10 days to five days. This Amended Order additionally clarifies language already on the Attestation Form that children under two years of age do not need to complete (or have a parent or guardian complete on their behalf) the attestation.

A copy of the Amended Order and Attestation Form is below. A copy of these documents can be found at: https://www.cdc.gov/quarantine/order-safe-travel.html.

Centers for Disease Control and Prevention (CDC)

Department of Health and Human Services (HHS)

Amended Order Implementing Presidential Proclamation on Advancing the Safe Resumption of Global Travel During the COVID-19 Pandemic

Summary

On October 25, 2021, the President issued a Proclamation pursuant to Sections 1182(f) and 1185(a)(1) of Title 8, and Section 301 of Title 3, United States Code, (the Proclamation), titled, “Advancing the Safe Resumption of Global Travel During the COVID-19 Pandemic.” Pursuant to this Proclamation, the President has implemented a global suspension and limitation on entry for noncitizens who are nonimmigrants seeking to enter the United States by air travel and who are not fully vaccinated against COVID-19. The Proclamation directs the Secretary of Health and Human Services (HHS), through the Director of the Centers for Disease Control and Prevention (CDC), to implement the Proclamation as it applies to public health in accordance with appropriate public health protocols and consistent with CDC's independent public health judgment.

The Proclamation does not alter the obligation of persons, including persons whose entry is not covered by the Proclamation, to comply with the requirements of state, local, territorial, or Tribal authorities, or the applicable requirements of CDC Orders, including:

• Requirement for Negative Pre-Departure COVID-19 Test Result or Documentation of Recovery from COVID-19 for All Airline or Other Aircraft Passengers Arriving in the United States from any Foreign Country (published at 86 FR 7387, January 28, 2021; amended and republished at 86 FR 69256, December 7, 2021) (as may be further amended);

• Requirement for Persons to Wear Masks While on Conveyances and at Transportation Hubs (published at 86 FR 8025, February 3, 2021) (as may be further amended); and

• Other CDC Orders that may be published relating to preventing the introduction, transmission, and spread of COVID-19 into and throughout the United States.

This Amended Order further amends the previous Order signed by the CDC Director on October 30, 2021, to align with revised CDC guidance related to isolation and quarantine after travel that was published on January 4, 2022. The new guidance reduces the number of days recommended for a person to self-quarantine after travel from 7 days to 5 days. The new guidance also reduces the number of days recommended for isolation for people who are diagnosed with COVID-19 or have COVID-19 symptoms from 10 days to 5 days. This Amended Order also clarifies language already on the attestation form that children under 2 years of age do not need to complete (or have a parent or guardian complete on their behalf) the attestation. The Amended Order also revises what is required for some people eligible for an exception to the vaccination requirement and what public health actions, such as self-quarantine or testing, may be required for such eligible people after arriving in the United States. This Amended Order shall enter into effect at 12:01 a.m. EDT on April 14, 2022.

Definitions

For purposes of this Amended Order, the following definitions apply:

Accepted COVID-19 Vaccine means:

• A vaccine authorized for emergency use or approved by the U.S. Food and Drug Administration (FDA); ¹ or

¹ For a list of vaccines approved or authorized in the United States to prevent COVID-19, see https://www.cdc.gov/coronavirus/2019-ncov/vaccines/different-vaccines.html.

• A vaccine listed for emergency use (EUL) by the World Health Organization (WHO); ² or

² For more information about WHO-listed COVID-19 vaccines, see https://www.who.int/emergencies/diseases/novel-coronavirus-2019/question-and-answers-hub/q-a-detail/coronavirus-disease-(covid-19)-vaccines.

• A vaccine or combination of vaccines listed by CDC in the Technical Instructions.

Covered Individual means any passenger covered by the Proclamation and this Amended Order: A noncitizen ³ who is a nonimmigrant seeking to enter the United States by air travel. This term does not apply to crewmembers of airlines or other aircraft operators if such crewmembers and operators adhere to all industry standard protocols for the prevention of COVID-19, as set forth in relevant guidance for crewmember health issued by the CDC or by the Federal Aviation Administration in coordination with the CDC.

³ For purposes of this Amended Order, U.S. lawful permanent residents and U.S. nationals will be treated in the same manner as U.S. citizens. For more details regarding who is not a Covered Individual under the Order, see: https://www.cdc.gov/coronavirus/2019-ncov/travelers/proof-of-vaccination.html#immigrants.

Covered Individual Attestation means the attestation in Attachment A,⁴ in written or electronic form, that must be completed by each Covered Individual as a condition of their being able to enter the United States under the Proclamation and this Amended Order.

⁴ CDC encourages airlines and aircraft operators to incorporate the attestation into paperless check-in processes. An airline or aircraft operator may use a third party (including a third-party application) to collect attestations, including to provide translations. However, an airline or aircraft operator will have sole legal responsibility to provide and collect attestations, to ensure the accuracy of any translation, and to comply with all other obligations under agency directives implementing the Proclamation. An airline or aircraft operator is responsible for any failure of a third party to comply with such directives. An airline or aircraft operator may not shift any legal responsibility to a third party.

Excepted Covered Individual means a Covered Individual who is not fully vaccinated against COVID-19 and meets the criteria for an exception under the Proclamation and this Amended Order.

Foreign country means anywhere that is not a state, territory, or possession of the United States.

Foreign Country with Limited COVID-19 Vaccine Availability means a foreign country where less than 10 percent of the country's total population has been fully vaccinated with any available COVID-19 vaccine. These countries are listed by CDC in Technical Instructions.

Fully Vaccinated Against COVID-19 ⁵ means it has been:

⁵ While not a requirement of this Amended Order, CDC recommends that all travelers get a booster dose when eligible to stay up to date with their COVID-19 vaccines. See https://www.cdc.gov/coronavirus/2019-ncov/vaccines/stay-up-to-date.html.

• 2 weeks (14 days) or more since a person received one dose of an accepted single-dose-series COVID-19 vaccine; OR

• 2 weeks (14 days) or more since a person received a second dose in a 2-dose series of an accepted COVID-19 vaccine; OR

• 2 weeks (14 days) since a person received the full series of an accepted COVID-19 vaccine (not placebo) in a clinical trial; OR

• 2 weeks (14 days) since the person received 2 doses of any “mix-and-match” combination of accepted COVID-19 vaccines administered at least 17 days apart; ⁶ OR

⁶ The recommended interval between the first and second doses of FDA-approved/authorized and WHO-EUL listed vaccines varies by vaccine type. However, for purposes of interpretation of vaccine records, the second dose in a two dose heterologous series must have been received no earlier than 17 days (21 days with a 4-day grace period) after the first dose.

• 2 weeks (14 days) or more since the person received a complete series of a vaccine or combination of vaccines listed by CDC in Technical Instructions.

Not Fully Vaccinated Against COVID-19 means a person does not meet the definition of Fully Vaccinated Against COVID-19.

Post-Arrival Viral Test means a viral test taken by an Excepted Covered Individual, obtained 3-5 days after arriving in the United States or other period as specified in the most current CDC guidance in effect at the time the Excepted Covered Individual completes the Covered Individual Attestation.⁷

⁷ Requirement for Proof of COVID-19 Vaccination for Air Passengers, available at https://www.cdc.gov/coronavirus/2019-ncov/travelers/proof-of-vaccination.html.

Post-Arrival Vaccination means completion of the primary series of an Accepted COVID-19 Vaccine by an Excepted Covered Individual followed by a two-week period in order to become Fully Vaccinated Against COVID-19 within 60 days of arriving in the United States, or as soon thereafter as is medically appropriate, if the Excepted Covered Individual plans to be in the United States for longer than 60 days.

Proof of Being Fully Vaccinated Against COVID-19 means a paper or digital format of a vaccination record or a verifiable vaccination record, as listed by CDC in Technical Instructions, confirming that the person is Fully Vaccinated Against COVID-19.

Self-isolation/Self-isolate means actions taken by an Excepted Covered Individual who tests positive on a viral test for COVID-19 administered on a specimen collected 3-5 days (or other period as specified in the most current CDC guidance in effect at the time the Excepted Covered Individual completes the Covered Individual Attestation) after arriving in the United States or develops COVID-19 symptoms.8 9 These actions include separating from other individuals and staying in a home or other residence for at least 5 calendar days (or other period as specified in the most current CDC guidance in effect at the time the Excepted Covered Individual completes the Covered Individual Attestation) after symptom onset or the date of first positive test if asymptomatic.¹⁰ The actions also include observing other public health precautions as set forth in the most current CDC guidance in effect at the time the Excepted Covered Individual completes the Covered Individual Attestation, such as properly wearing a well-fitting mask any time the Excepted Covered Individual must be around other people during the isolation period and for an additional 5 days after ending isolation.11 12

⁸ Ibid.

⁹ Symptoms of COVID-19, available at https://www.cdc.gov/coronavirus/2019-ncov/symptoms-testing/symptoms.html.

¹⁰ Requirement for Proof of COVID-19 Vaccination for Air Passengers, available at https://www.cdc.gov/coronavirus/2019-ncov/travelers/proof-of-vaccination.html.

¹¹ Ibid.

¹² Quarantine and Isolation, available at https://www.cdc.gov/coronavirus/2019-ncov/your-health/quarantine-isolation.html.

Self-quarantine means actions taken by an Excepted Covered Individual to separate from other individuals after arriving in the United States, including staying in a home or other residence for a full 5 days, or other period as specified in the most current CDC guidance in effect at the time the Excepted Covered Individual completes the Covered Individual Attestation, and observing public health precautions as set forth in the most current CDC guidance in effect at the time the Excepted Covered Individual completes the Covered Individual Attestation.13 14

¹³ Requirement for Proof of COVID-19 Vaccination for Air Passengers, available at https://www.cdc.gov/coronavirus/2019-ncov/travelers/proof-of-vaccination.html.

¹⁴ Travel Guidance for Non-U.S. Citizens, Non-U.S. Immigrants, available at https://www.cdc.gov/coronavirus/2019-ncov/travelers/noncitizens-US-air-travel.html.

Viral test means a viral detection test for current infection (i.e., a nucleic acid amplification test [NAAT] or a viral antigen test) approved, cleared, or authorized by the FDA for the detection of SARS-CoV-2.

United States or U.S. has the same definition as “United States” in 42 CFR 71.1(b), meaning “the 50 States, District of Columbia, and the territories (also known as possessions) of the United States, including American Samoa, Guam, the Northern Mariana Islands, the Commonwealth of Puerto Rico, and the U.S. Virgin Islands.”

Background

Since January 2020, the respiratory disease known as “COVID-19,” caused by a novel coronavirus (SARS-CoV-2), has spread globally, including cases reported in all 50 states within the United States, plus the District of Columbia and all U.S. territories. As of March 29, 2022, there have been almost 481,756,700 million cases of COVID-19 globally, resulting in almost 6,128,000 deaths.¹⁵ More than 79,827,900 cases have been identified in the United States, with new cases reported daily, and over 975,500 deaths attributed to the disease.¹⁶ Additionally, throughout the duration of this pandemic, cases have tended to surge in waves, especially after high-volume travel periods or when new variants have emerged.¹⁷

¹⁵ https://covid19.who.int/.

¹⁶ https://covid.cdc.gov/covid-data-tracker/#datatracker-home.

¹⁷ Ibid.

On November 24, 2021, the Republic of South Africa informed the World Health Organization (WHO) of a new variant of SARS-CoV-2, the virus that causes COVID-19, that was detected in that country. On November 26, 2021, WHO designated the variant B.1.1.529 as a variant of concern and named it Omicron.¹⁸ This decision was based on the evidence presented to the Technical Advisory Group on SARS-CoV-2 Virus Evolution (TAG-VE) which is a group of independent experts charged with assessing the evolution of SARS-CoV-2 and examining if specific mutations and combinations of mutations may alter how the virus spreads and whether it may cause more severe illness. The evidence presented to the TAG-VE noted that Omicron has several mutations that may have an impact on how easily it spreads or the severity of illness it causes.¹⁹

¹⁸ https://www.who.int/news/item/26-11-2021-classification-of-omicron-(b.1.1.529)-sars-cov-2-variant-of-concern.

¹⁹ https://www.who.int/news/item/28-11-2021-update-on-omicron.

Even as COVID-19 rates fall in most of the United States, Omicron and sub-variants are still highly prevalent in other parts of the world. WHO and CDC continue to collaborate with researchers around the world to better understand Omicron and track potential future variants of SARS-CoV-2. Studies include assessments of transmissibility, severity of infection (including symptoms), and how well people who are fully vaccinated and boosted are protected against infection, hospitalization, and death. While data indicate that current vaccines are less effective at preventing infection from Omicron as compared to other variants, data also suggest that hospitalization and death rates are lower for individuals infected with Omicron who are vaccinated compared with other variants.20 21 With an estimated 100 percent increase in transmission for Omicron when compared to the original virus, vaccinations continue to play an important role in protecting the public from severe illness.²² A booster dose of vaccine mitigates the reduction in vaccine effectiveness, and CDC has provided guidance advising that people stay up to date with their COVID-19 vaccines, including getting a booster dose if eligible.23 24

²⁰ Johnson AG, Amin AB, Ali AR, et al. COVID-19 Incidence and Death Rates Among Unvaccinated and Fully Vaccinated Adults with and Without Booster Doses During Periods of Delta and Omicron Variant Emergence—25 U.S. Jurisdictions, April 4-December 25, 2021. MMWR Morb Mortal Wkly Rep. ePub: 21 January 2022. DOI: http://dx.doi.org/10.15585/mmwr.mm7104e2.

²¹ Thompson MG, Natarajan K, Irving SA, et al. Effectiveness of a Third Dose of mRNA Vaccines Against COVID-19-Associated Emergency Department and Urgent Care Encounters and Hospitalizations Among Adults During Periods of Delta and Omicron Variant Predominance—VISION Network, 10 States, August 2021-January 2022. MMWR Morb Mortal Wkly Rep. ePub: 21 January 2022. DOI: http://dx.doi.org/10.15585/mmwr.mm7104e3.

²² Ibid.

²³ Accorsi EK, Britton A, Fleming-Dutra KE, Smith ZR, Shang N, Derado G, et al. Association Between 3 Doses of mRNA COVID-19 Vaccine and Symptomatic Infection Caused by the SARS-CoV-2 Omicron and Delta Variants. JAMA 2022. https://jamanetwork.com/journals/jama/fullarticle/2788485.

²⁴ https://www.cdc.gov/coronavirus/2019-ncov/vaccines/stay-up-to-date.html.

The United States is taking a multi-layered approach to combatting COVID-19 by taking concurrent efforts to prevent and slow the continued introduction of cases and further spread of the virus within U.S. communities. Vaccines remain the best public health measure to protect people from severe illness or death from COVID-19, slow transmission, and reduce the likelihood of new variants emerging.

On October 25, 2021, the President issued a Proclamation under 3 U.S.C. 301 and 8 U.S.C. 1182(f), 1185(a)(1), titled, “Advancing the Safe Resumption of Global Travel During the COVID-19 Pandemic.” The Proclamation revoked prior, country-specific presidential proclamations issued under these authorities in response to the outbreak of COVID-19. In their place, the President implemented a global suspension and restriction on entry for noncitizens who are nonimmigrants seeking to enter the United States by air travel and who are not fully vaccinated against COVID-19, with only limited exceptions. This Amended Order and associated Technical Instructions continue to implement the Proclamation. As further explained in this Amended Order, CDC continues to implement the Proclamation and require that Covered Individuals who are fully vaccinated show Proof of Being Fully Vaccinated Against COVID-19 and complete a Covered Individual Attestation attesting that they are fully vaccinated. Excepted Covered Individuals who are unable to present Proof of Being Fully Vaccinated Against COVID-19 must present a Covered Individual Attestation to the airline or aircraft operator prior to boarding the aircraft and attest that they have arranged to take specified public health actions after arrival in the United States.

Persons Whose Entry Is Not Covered by the Proclamation or Who Are Excepted Covered Individuals

The Proclamation applies only to non-U.S. citizens seeking entry as nonimmigrants. Individuals seeking admission to the United States as immigrants are subject to the medical examination and vaccination requirements of 8 U.S.C. 1182(a)(1)(A) and 42 CFR part 34. These requirements are further described in CDC's COVID-19 Technical Instructions for Panel Physicians.²⁵

²⁵ https://www.cdc.gov/immigrantrefugeehealth/panel-physicians/covid-19-technical-instructions.html.

The Proclamation does not apply to crewmembers of airlines or other aircraft operators if they follow industry standard protocols for the prevention of COVID-19.26 27 Accordingly, per the terms of the Proclamation, these individuals are not Covered Individuals and are not required to present Proof of Being Fully Vaccinated nor required to present a completed Covered Individual Attestation to the airline or aircraft operator before boarding an aircraft destined to the United States.

²⁶ Crewmembers on official duty assigned by the airline or operator that involves operation of aircraft, or the positioning of crew not operating the aircraft (i.e., on “deadhead” status), are exempt from the requirements of this Amended Order provided their assignment is under an air carrier's or operator's occupational health and safety program that follows applicable industry standard protocols for the prevention of COVID-19 as set forth in the most current relevant guidance issued by the CDC or the Federal Aviation Administration in coordination with the CDC (e.g., SAFO 20009, COVID-19: Updated Interim Occupational Health and Safety Guidance for Air Carriers and Crews, available at https://www.faa.gov/other_visit/aviation_industry/airline_operators/airline_safety/safo/all_safos/media/2020/SAFO20009.pdf.).

²⁷ CDC Technical Instructions: https://www.cdc.gov/quarantine/order-safe-travel/technical-instructions.html.

The Proclamation permits Excepted Covered Individuals to enter the United States by air if they meet certain criteria as determined by the CDC. Except for children under the age of 2 years, Excepted Covered Individuals are required to present a Covered Individual Attestation to the airline or aircraft operator before boarding an aircraft destined to the United States attesting that they meet criteria outlined in the Technical Instructions for certain categories of exceptions.²⁸

²⁸ Ibid.

In the Covered Individual Attestation, Excepted Covered Individuals must also attest to arranging to take specified post-arrival public health actions that, depending on the exception, could include a Post-arrival Viral Test, Self-quarantine, or Self-isolation if they test positive; and a Post-arrival Vaccination if their exception requires it and they are staying in the country for more than 60 days. Information about the requirements for these actions is detailed in the definitions of this Amended Order, Technical Instructions, and in CDC guidance.²⁹ The exception categories include:

²⁹ Requirement for Proof of COVID-19 Vaccination for Air Passengers, available at https://www.cdc.gov/coronavirus/2019-ncov/travelers/proof-of-vaccination.html.

Diplomatic and Official Foreign Government Travel. The Proclamation excepts any noncitizen seeking entry into or transiting the United States for certain diplomatic or official foreign government activities. This includes:

• Noncitizens traveling pursuant to one of the following nonimmigrant visa classifications: A-1, A-2, C-2, C-3 (as a foreign government official or immediate family member of an official), E-1 (as an employee of TECRO or TECO or the employee's immediate family members), G-1, G-2, G-3, G-4, NATO-1 through NATO-4, or NATO-6 (or seeking to enter as a nonimmigrant in one of those NATO classifications); or

• Any noncitizen whose travel falls within the scope of section 11 of the United Nations Headquarters Agreement or other travel pursuant to a United States legal obligation (as evidenced by a letter of invitation from the United Nations or other documentation showing the purpose of such travel).

These persons must provide proof of their visa classification or an official letter, such as a letter from the U.S. government or foreign government. If they have been invited by the United Nations, they will need to present a letter of invitation from the United Nations or other documentation showing the purpose of such travel. They will also be required to provide the Covered Individual Attestation to the airline or aircraft operator before boarding an aircraft destined to the United States. In the attestation, they must attest to having arranged to receive a Post-arrival Viral Test after arriving in the United States; to Self-quarantine, except during periods when their attendance is required to carry out the purposes of the diplomatic or official foreign government travel (e.g., to attend official meetings or events); and Self-isolate if the result of the post-arrival viral test is positive or if they develop COVID-19 symptoms. Individuals who meet the Diplomatic and Official Foreign Government Travel exception will not be required to attest to arranging for a Post-arrival Vaccination.³⁰

³⁰ As noted in Frequently Asked Questions on CDC's website (see https://www.cdc.gov/coronavirus/2019-ncov/travelers/proof-of-vaccination.html), this policy has been in place since December 2021 and was subsequently included in the Covered Individual Attestation. It is incorporated into the substance of this Amended Order, consistent with the need to expedite diplomatic and official foreign government travel and comity regarding how U.S. diplomats are treated abroad.

Children. The Proclamation excepts noncitizens who are nonimmigrants for whom, given their age, requiring vaccination would be inappropriate as determined by the CDC, taking into account global vaccine availability for individuals in that age group. In the United States, COVID-19 vaccinations are widely available for children and adolescents, with a vaccine approved or authorized for those 5 years and older.³¹ However, the same availability does not exist globally.³² Accordingly, considering the difficulty potentially posed to families traveling together when some members of the family can be vaccinated and others cannot, persons under the age of 18 years meet the age-based exception in the Proclamation.

³¹ https://www.cdc.gov/coronavirus/2019-ncov/vaccines/recommendations/children-teens.html.

³² https://www.who.int/news/item/24-11-2021-interim-statement-on-covid-19-vaccination-for-children-and-adolescents.

Noncitizens who are nonimmigrants and who are children ages 2 through 17 and unable to present Proof of Being Fully Vaccinated Against COVID-19 must present a completed Covered Individual Attestation to the airline or aircraft operator prior to embarking an aircraft destined to the United States. CDC has determined that children under 2 years of age do not need to have an attestation completed because many are infants in arms, who are not required to have an airline ticket and for whom an attestation presents significant logistical burdens. Children ages 2 through 17 will be required to attest (or have a parent or guardian attest on their behalf) to arranging to get a Post-arrival Viral Test and Self-isolate if the test result is positive or if the child develops COVID-19 symptoms. However, children ages 2 through 17 will not be required to attest (or have a parent or guardian attest on their behalf) to having arranged to Self-quarantine in the United States after arrival. Based on the potential difficulty that self-quarantine may pose to children ages 2 through 17, especially when accompanied by a vaccinated parent or guardian who is not required to self-quarantine, CDC has determined that self-quarantine should not be required. As previously stated, children under 2 years of age are not required to attest (or have a parent or guardian attest on their behalf) to arranging to complete any post-arrival public health requirements. CDC believes that this approach fairly balances the interests of families traveling to the United States with protecting the public's health. CDC guidance strongly recommends vaccination for all adolescents and eligible children. However, given the still evolving circumstances of vaccination for children, attestation regarding post-arrival vaccination will not be required for children ages 2 through 17 at this time. This determination will be periodically reevaluated.

Clinical Trials. The Proclamation excepts noncitizens who are nonimmigrants and who have participated or are participating in certain clinical trials for COVID-19 vaccination, as determined by the CDC. Qualifying vaccine candidates that meet CDC criteria for the exception are specified in the Technical Instructions.³³ Because these clinical trial participants may have received a COVID-19 vaccine or series of COVID-19 vaccines that do not meet the definition of an Accepted COVID-19 Vaccine, these participants may not be able to present Proof of Being Fully Vaccinated Against COVID-19. Accordingly, noncitizens who are nonimmigrants and who have participated or are participating in certain COVID-19 vaccine trials and unable to present Proof of Being Fully Vaccinated Against COVID-19 must present a completed Covered Individual Attestation to the airline or aircraft operator prior to embarking an aircraft destined to the United States.

³³ https://www.cdc.gov/quarantine/order-safe-travel/technical-instructions.html (Table 3).

To meet the clinical trial exception, Covered Individuals must provide official documentation of clinical trial participation outlined further in the Technical Instructions. Those who meet the clinical trial exception must attest (or have a parent or guardian attest on their behalf) to having arranged to receive a Post-arrival Viral Test, and Self-isolate if the test result is positive or if they develop COVID-19 symptoms. However, CDC has determined that these individuals should not be required to attest to arranging to self-quarantine or to be vaccinated after arriving in the United States. Requiring self-quarantine after arrival could potentially discourage clinical trial participation which would not serve the interests of public health and requiring vaccination could potentially invalidate the clinical trial study.

Medical Contraindications. The Proclamation excepts noncitizens who are nonimmigrants for whom receiving an accepted COVID-19 vaccine is medically contraindicated as determined by CDC.³⁴ Accordingly, CDC has determined that for an individual to meet this exception, a licensed physician must have determined that the individual has a medical contraindication to an accepted COVID-19 vaccine (e.g., a demonstrated anaphylactic reaction to a prior dose of a COVID-19 vaccine or vaccine component). As further described in the Technical Instructions, such individuals are not required to present Proof of Being Fully Vaccinated Against COVID-19. COVID-19 vaccinations have been overwhelmingly proven to be safe and effective at preventing severe illness, hospitalizations, and deaths from COVID-19. However, as is the case with any vaccine, certain medical complications can occur, such as a severe allergic reaction. CDC intends for this exception to be applied in strict accordance with scientific evidence and has provided additional details concerning exceptions for medical contraindications in the Technical Instructions. Persons who believe they meet the criteria for this exception must present a signed letter from a licensed physician documenting a medical contraindication to receiving a COVID-19 vaccine. In the Covered Individual Attestation, they must attest that they meet the exception, and must attest to having arranged to obtain a Post-arrival Viral Test, Self-quarantine, and Self-isolate if they test positive or if they develop COVID-19 symptoms.

³⁴ Objections to vaccination based on religious or moral convictions do not qualify under this or any other exception listed in the Proclamation or this Amended Order.

Humanitarian and Emergency Exceptions. The Proclamation excepts any noncitizen nonimmigrant who has been granted an exception by the CDC for humanitarian or emergency reasons, as determined by the CDC. CDC applies this exception extremely narrowly, such as when an individual must travel to the United States to preserve health and safety (e.g., emergency medical evacuations) and is unable to complete the vaccination requirement before travel. Individuals and organizations sponsoring individuals who meet the exception criteria should contact the U.S. embassy or consulate in or nearest the country from which they are departing for the United States. The embassy will then transmit this information to CDC for consideration. Any noncitizen who is a nonimmigrant granted an exception for humanitarian or emergency reasons must present an official U.S. government letter and a completed Covered Individual Attestation to the airline or aircraft operator prior to embarking an aircraft destined to the United States. Such individual must attest to having arranged to obtain a Post-arrival Viral Test, Self-quarantine, and Self-isolate if they test positive or develop COVID-19 symptoms. They also must attest to having arranged to receive a Post-arrival Vaccination within 60 days of arriving in the United States, or as soon thereafter as is medically appropriate as determined by CDC, if they intend to stay in the United States for more than 60 days.

Limited Vaccine Availability. The Proclamation excepts any noncitizen who is a nonimmigrant with a nonimmigrant visa (excluding a B-1 or B-2 visa) and who is a citizen of a Foreign Country with Limited COVID-19 Vaccine Availability, which is defined pursuant to the Proclamation and this Amended Order as a foreign country where less than 10 percent of the country's total population has been fully vaccinated with any available COVID-19 vaccine or is otherwise determined by the Director of the CDC to qualify as a country where the availability of COVID-19 vaccination is limited.³⁵ The list of countries falling below the 10 percent threshold is maintained by CDC in the Technical Instructions and reviewed on a regular basis. In developing and maintaining this list, CDC relies on official source data as reported by foreign ministries of health but may also rely on other sources such as additional information provided by U.S. embassies and consulates.

³⁵ https://covid.cdc.gov/covid-data-tracker/#datatracker-home.

Individuals entering the United States under this exception must show proof that they meet the exception through a passport issued by a foreign country with limited COVID-19 vaccine availability and a non-B-1 or B-2 nonimmigrant visa as well as a completed Covered Individual Attestation to the airline or aircraft operator prior to embarking an aircraft destined to the United States. Additionally, these individuals must attest to having arranged to obtain a Post-arrival Viral Test, Self-quarantine, and Self-isolate if they test positive or develop COVID-19 symptoms. They also must attest to having arranged to receive a Post-arrival Vaccination within 60 days of arriving in the United States, or as soon thereafter as is medically appropriate as determined by CDC, if they intend to stay in the United States for more than 60 days.

Members of the U.S. Armed Forces. The Proclamation and this Amended Order except noncitizens who are members of the U.S. Armed Forces and the spouses and children under 18 years of age of members of the U.S. Armed Forces. CDC applies this exception in a similar manner as in the CDC Order, Requirement for Proof of Negative COVID-19 Test or Recovery from COVID-19 for All Air Passengers Arriving in the United States. Members of the U.S. Armed Forces and their family members observe U.S. Department of Defense (DoD) guidance to prevent the transmission of COVID-19 as set forth in Force Protection Guidance (Supplement 20) Revision 1—Department of Defense Guidance for Personnel Traveling During the Coronavirus Disease 2019 Pandemic ³⁶ (January 10, 2022) or subsequent updated DoD guidance. Accordingly, members of the U.S. Armed Forces and their family members, if traveling with a U.S. military identification document or other proof of status as a member of the U.S. Armed Forces or as a spouse, or child ages 2 through 17 of a member of the U.S. Armed Forces, must attest (or have a parent or guardian attest on their behalf if a child ages 2 through 17) to their status on the Covered Individual Attestation, but are not required to attest to having arranged to complete any post-arrival public health requirements. As previously stated, children under 2 years of age are not required to attest or have a parent or guardian attest on their behalf, to having arranged to complete any post-arrival public health requirements.

³⁶ https://media.defense.gov/2022/Jan/11/2002920095/-1/-1/1/FORCE-HEALTH-PROTECTION-GUIDANCE-SUPPLEMENT-20-REVISION-1-DEPARTMENT-OF-DEFENSE-GUIDANCE-FOR-PERSONNEL-TRAVELING-DURING-THE-CORONAVIRUS-DISEASE-2019-PANDEMIC.PDF.

Sea Crew Members. The Proclamation excepts any noncitizen seeking entry to or transiting through the United States as a sea crew member traveling pursuant to a C-1 and D nonimmigrant visa if such sea crew member adheres to all industry standard protocols for the prevention of COVID-19, as set forth in relevant guidance for sea crew member health by the CDC.³⁷ Any passenger granted an exception as a sea crew member must present documentation to the airline from their employer indicating that their entry to or transit through the United States is required for the purpose of operating a vessel or return travel after disembarking the vessel. Sea crew members entering the United States under this exception must present a completed Covered Individual Attestation to the airline or aircraft operator prior to embarking an aircraft destined to the United States. Sea crew members traveling on this exception also must attest to having arranged to obtain a Post-arrival Viral Test, Self-quarantine, and Self-isolate if they test positive or develop COVID-19 symptoms. They also must attest to a Post-arrival Vaccination within 60 days of arriving in the United States, or as soon thereafter as is medically appropriate as determined by CDC if they intend to stay in the United States for more than 60 days. Given that sea crew members may need to board a ship soon after arrival in the United States, CDC has provided additional information about how Excepted Covered Individuals who are sea crew members can meet the requirements of the Amended Order and post-arrival requirements on CDC's website.³⁸

³⁷ See CDC's guidance: https://www.cdc.gov/coronavirus/2019-ncov/travelers/proof-of-vaccination.html for additional information regarding post-arrival public health management of sea crew. Relevant CDC guidance pertaining to sea crew members serving on board cruise ships has been issued separately (available at https://www.cdc.gov/quarantine/cruise/index.html). Additional guidance applicable to crew serving onboard all vessels is available at https://www.cdc.gov/quarantine/maritime/recommendations-for-ships.html.

³⁸ https://www.cdc.gov/coronavirus/2019-ncov/travelers/proof-of-vaccination.html#faq-exceptions.

National Interest Exception. The Proclamation excepts any noncitizen or group of noncitizens whose entry would be in the U.S. national interest, as determined by the Secretary of State, the Secretary of Transportation, or the Secretary of Homeland Security or their designees. Any Excepted Covered Individual granted an exception in the national interest must present an official U.S. government letter and a completed Covered Individual Attestation to the airline or aircraft operator prior to embarking an aircraft destined to the United States. Such an individual must also attest to having arranged to: Obtain a Post-arrival Viral Test; Self-quarantine, except during periods when attendance is required to carry out the purposes of the travel for the U.S. national interest (e.g., to attend official meetings or events); and Self-isolate if they test positive or develop COVID-19 symptoms. They also must attest to having arranged to receive a Post-arrival Vaccination within 60 days of arriving in the United States, or as soon thereafter as is medically appropriate, if they intend to stay in the United States for more than 60 days.

Requirement To Provide a Covered Individual Attestation

The Proclamation directs the HHS Secretary, acting through the CDC Director, to implement the Proclamation as it applies to public health through such procedures as may be established, and consistent with CDC's independent public health judgment. In accordance with the President's direction, this Amended Order requires that Covered Individuals seeking to enter the United States by air travel who are fully vaccinated may embark an aircraft destined for the United States only if they show Proof of Being Fully Vaccinated Against COVID-19 and complete a Covered Individual Attestation attesting that they are fully vaccinated.

Additionally, Covered Individuals seeking to enter the United States by air travel and who are not Fully Vaccinated Against COVID-19 may embark an aircraft destined for the United States only if they qualify as Excepted Covered Individuals pursuant to the Proclamation. Under the Proclamation and this Amended Order, such individuals must agree, depending on their category of exception, that they will comply with applicable public health precautions established by CDC to protect against the public health risk posed by these travelers entering into the United States. These include:

• Providing proof in the form of an attestation of pre-departure testing for COVID-19 or documentation of recovery from COVID-19, as determined by the CDC;

• taking precautions during air travel to protect against the further introduction, transmission, and spread of COVID-19, including by complying with the requirement to wear a face mask, as determined by the CDC;

• providing proof in the form of an attestation of having arranged for post-arrival testing for COVID-19, as determined by the CDC; and

• providing proof in the form of an attestation of having arranged to self-quarantine or self-isolate after arriving in the United States, as determined by the CDC.

Some categories of Excepted Covered Individuals (subject to certain exceptions) must also attest to having arranged to become fully vaccinated against COVID-19 within 60 days ³⁹ of arriving in the United States if the individual intends to stay in the United States for more than 60 days, or as soon thereafter as is medically appropriate as determined by the CDC, and must provide proof in the form of an attestation of having arranged to become fully vaccinated against COVID-19 after arriving in the United States.

³⁹ CDC considers 60 days an appropriate time frame for requiring that persons arriving in the United States be fully vaccinated against COVID-19. The mRNA COVID-19 vaccines (Pfizer-BioNTech and Moderna) available in the United States are administered 3-4 weeks apart (see https://www.cdc.gov/coronavirus/2019-ncov/vaccines/different-vaccines.html). It takes 14 days after the second dose to be considered fully vaccinated. Therefore, it is reasonable to conclude that individuals should be able to complete the vaccination series and the 14-day period within 60 days of arriving in the United States.

The Covered Individual Attestation must be completed, in written or electronic form, by the Covered Individual and is subject to 18 U.S.C. 1001. As further explained in the attached Attestation form (Attachment A), persons who knowingly submit false information may be subject to fines, imprisonment, and other penalties. Airlines or other aircraft operators, as directed by the Transportation Security Administration (TSA), including through the Security Directive issued, and consistent with this Amended Order, are required to retain a copy of the Covered Individual Attestation for 2 years; however, individuals are not required to retain a copy of the attestation in their possession upon arriving in the United States.

Future CDC Orders implementing the Proclamation may require other public health measures consistent with the Proclamation to protect against the further introduction, transmission, and spread of COVID-19 into the United States by Covered Individuals.

Statement of Good Cause Under the Administrative Procedure Act

This Amended Order is not a legislative rule within the meaning of the Administrative Procedure Act (APA), but rather an Order implementing the Proclamation, which itself is not subject to the APA. Because this Amended Order qualifies as a legislative rule under the APA, notice and comment and a delay in the effective date are not required because there is good cause to dispense with prior public notice and comment and for a delay in the effective date. See 5 U.S.C. 553(b)(B), (d)(3). Considering the rapid and unpredictable developments in the public health emergency caused by COVID-19, it would be impracticable and contrary to the public's health, and by extension the public's interest, to delay the issuance and effective date of this Amended Order implementing the Proclamation. In light of the rapid spread of Omicron and its impact on travel, any delay in issuing these amendments would adversely affect travelers and the air travel industry by depriving these persons and entities of the ability to rely on the most up-to-date findings and scientific determinations relating to the ongoing COVID-19 pandemic. In addition, the APA does not require a delay in the effective date because this Amended Order relieves certain restrictions. See 5 U.S.C. 553(d)(1).

This Amended Order is being issued to align with revised CDC guidance related to isolation and quarantine after travel that was published on January 4, 2022 and make other changes based on CDC's public health expertise. Revised CDC guidance reduces the number of days recommended for a person to self-quarantine after travel from 7 to 5 days.40 41 Additionally, the new guidance reduces the number of days recommended for isolation for people who are diagnosed with COVID-19 or have COVID-19 symptoms from 10 days to 5 days. Further delay to these updates may result in travelers quarantining or isolating longer than needed after travel. This Amended Order also allows for these time periods to be adjusted if further updates are made to CDC's guidance. Updates will be reflected in the attestation and on CDC's website.⁴²

⁴⁰ Quarantine and Isolation, available at https://www.cdc.gov/coronavirus/2019-ncov/your-health/quarantine-isolation.html.

⁴¹ Travel Guidance for Non-U.S. Citizens, Non-U.S. Immigrants, available at https://www.cdc.gov/coronavirus/2019-ncov/travelers/noncitizens-US-air-travel.html.

⁴² Requirement for Proof of COVID-19 Vaccination for Air Passengers, available at https://www.cdc.gov/coronavirus/2019-ncov/travelers/proof-of-vaccination.html.

This Amended Order also provides that children under 2 years of age do not need to complete (or have a parent or guardian complete on their behalf) an attestation, revises what is required for Excepted Covered Individuals to meet the criteria for an exception, and provides more clarity on what public health actions (e.g., Self-quarantine, Post-arrival Viral Test) may be required after arriving in the United States. It is imperative that these amendments be issued without further delay so that affected individuals have the necessary clarity when arranging their travel and post-travel plans in accordance with the requirements of this Amended Order. Overall, these updates reduce the burden to the air passenger, such as by reducing the time period they would be required to attest to arranging after arrival in the United States and being more explicit about which activities are not required for certain exceptions.

This Amended Order is an economically significant regulatory action under Executive Order 12866 and has therefore been reviewed by the Office of Information and Regulatory Affairs of the Office of Management and Budget. Similarly, the Office of Information and Regulatory Affairs has determined that if this Amended Order were a rule, it would be a major rule under Subtitle E of the Small Business Regulatory Enforcement Fairness Act of 1996 (the Congressional Review Act), 5 U.S.C. 804(2), but there would not be a delay in its effective date as the agency has determined that there would be good cause to make the requirements herein effective immediately under the APA, 5 U.S.C. 808(2).

If any provision of this Amended Order continuing to implement the Proclamation, or the application of any provision to any carriers, persons, or circumstances, shall be held invalid, the remainder of the provisions, or the application of such provisions to any carriers, persons, or circumstances other than those to which it is held invalid, shall remain valid and in effect.

Pursuant to 5 U.S.C. 553(b)(B), and for the reasons stated above, I hereby conclude that notice-and-comment rulemaking would defeat the purpose of this Amended Order implementing the Proclamation and endanger the public health, and is, therefore, impracticable and contrary to the public interest. For the same reasons, I have determined, consistent with 5 U.S.C. 553(d)(3), that there is good cause to make this Amended Order implementing the Proclamation effective without a 30-day delay in effective date. In addition, consistent with 5 U.S.C. 553(d)(1), this Amended Order implementing the Proclamation does not require a 30-day delay in effective date because it relieves certain restrictions.

Action

Accordingly, for the reasons set forth in the Proclamation and in this Amended Order:

1. Directions to Airlines and Other Aircraft Operators

As directed by TSA, including through its Security Directive or Emergency Amendment issued after consultation with CDC, and consistent with this Amended Order, any airline or other aircraft operator transporting by air into the United States individuals who are Covered Individuals from any foreign country, as determined and confirmed by the airline or other aircraft operator, is required to:

A. Confirm that every Covered Individual, unless excepted, prior to boarding the aircraft, has presented paper or digital documentation of Proof of Being Fully Vaccinated Against COVID-19 that includes personal identifiers (e.g., name and date of birth) that match the personal identifiers on the passenger's passport or other travel documents, and provides a Covered Individual Attestation.

B. Confirm that every Covered Individual who has not presented Proof of Being Fully Vaccinated Against COVID-19 prior to boarding the aircraft has presented documentation proving that they are an Excepted Covered Individual under the Proclamation and this Amended Order as further explained by CDC in the Technical Instructions.

C. Confirm that every Excepted Covered Individual ⁴³ who has not presented Proof of Being Fully Vaccinated Against COVID-19 prior to boarding the aircraft provides a Covered Individual Attestation, and as further explained in the Technical Instructions, attests to the following (as applicable):

⁴³ Parents or guardians of children under 2 years of age do not need to attest on behalf of these children, but they must present proof of the child's age to the airline or aircraft operator before boarding.

a. Being excepted from the requirement to present Proof of Being Fully Vaccinated Against COVID-19 for one of the reasons set forth in the Proclamation and this Amended Order;

b. having arranged to be tested with a COVID-19 viral test 3-5 days after arriving in the United States, or other period as specified in the most current CDC guidance in effect at the time the Excepted Covered Individual completes the Covered Individual Attestation, unless the Excepted Covered Individual has documentation of having recovered from COVID-19 in the past 90 days, or other period as specified in the most current CDC guidance in effect at the time the Excepted Covered Individual completes the Covered Individual Attestation;

c. having arranged to self-quarantine, even if the test result to the post-arrival viral test is negative, unless the Excepted Covered Individual has documentation of having recovered from COVID-19 in the past 90 days or other period as specified in the most current CDC guidance in effect at the time the Excepted Covered Individual completes the Covered Individual Attestation; and

d. having arranged to self-isolate if the result of the post-arrival viral test is positive or if they develop COVID-19 symptoms.

D. Confirm that every Excepted Covered Individual who does not present Proof of Being Fully Vaccinated Against COVID-19, provides a Covered Individual Attestation, as applicable and as further explained in the Technical Instructions, attesting to the following:

a. Having arranged to become fully vaccinated against COVID-19 within 60 days after arriving in the United States, or as soon thereafter as is medically appropriate as determined by CDC, if such person intends to stay in the United States for more than 60 days, unless the individual is excepted from this requirement.

E. Not board any Covered Individual without confirming the applicable documentation as set forth in A, B, C, or D of this section.

The attestation is attached to this Amended Order as Attachment A.⁴⁴

⁴⁴ CDC has provided a combined passenger disclosure and attestation that fulfills the requirements of CDC Orders: Requirement for Proof of Negative COVID-19 Test Result or Recovery from COVID-19 for All Airline Passengers Arriving into the United States and Order Implementing Presidential Proclamation on Advancing the Safe Resumption of Global Travel During the COVID-19 Pandemic.

2. Requirements for Aircraft Passengers

In addition, I order that any aircraft passenger ⁴⁵ who is a Covered Individual under the Proclamation, prior to boarding an aircraft traveling from a foreign country to the United States, shall:

⁴⁵ A parent or other authorized individual may present the required documentation on behalf of a passenger ages 2 through 17. An authorized individual may act on behalf of any passenger who is unable to act on their own behalf (e.g., by reason of age, or physical or mental impairment). There are no documentation requirements for passengers under the age of 2 years of age.

A. Present to the airline or other aircraft operator paper or digital documentation reflecting Proof of Being Fully Vaccinated Against COVID-19 and provide a Covered Individual Attestation;

OR

B. If not presenting Proof of Being Fully Vaccinated Against COVID-19, present to the airline or aircraft operator documentation confirming that they are an Excepted Covered Individual under the Proclamation and this Amended Order, as applicable and as further explained by CDC in the Technical Instructions.

C. If an Excepted Covered Individual,⁴⁶ accurately complete and provide the airline or aircraft operator with a Covered Individual Attestation, as further explained by CDC in the Technical Instructions, attesting that the Excepted Covered Individual (as applicable):

⁴⁶ Parents or guardians of children under 2 years of age do not need to attest on behalf of these children, but they must present proof of the child's age to the airline or aircraft operator before boarding.

a. Is excepted from the requirement to present Proof of Being Fully Vaccinated Against COVID-19 for one of the reasons set forth in the Proclamation and this Amended Order;

b. has arranged to be tested with a COVID-19 viral test 3-5 days after arriving in the United States, or other period as specified in the most current CDC guidance in effect at the time the Excepted Covered Individual completes the Covered Individual Attestation, unless the Excepted Covered Individual has documentation of having recovered from COVID-19 in the past 90 days, or other period as specified in the most current CDC guidance in effect at the time the Excepted Covered Individual completes the Covered Individual Attestation;

c. has arranged to self-quarantine, even if the test result to the post-arrival viral test is negative, unless the Excepted Covered Individual has documentation of having recovered from COVID-19 in the past 90 days, or other period as specified in the most current CDC guidance in effect at the time the Excepted Covered Individual completes the Covered Individual Attestation; and

d. has arranged to self-isolate if the result of the post-arrival viral test is positive or if they develop COVID-19 symptoms.

D. If an Excepted Covered Individual, provide the airline or aircraft operator with a Covered Individual Attestation, as applicable and as further explained by CDC in the Technical Instructions, additionally attesting that the Excepted Covered Individual:

(1) has arranged to become fully vaccinated against COVID-19 within 60 days after arriving in the United States, or as soon thereafter as is medically appropriate as determined by CDC, if intending to stay in the United States for more than 60 days, unless the individual is excepted from this requirement.

E. Retain a copy of the applicable documentation listed in parts A, B, C, and D of this section and produce such documentation upon request, or as required by, any U.S. government official or a cooperating state, local, territorial, or Tribal public health authority after arrival in the United States.

Willfully giving false or misleading information to the government may result in criminal penalties under, inter alia, 18 U.S.C. 1001.

This Amended Order shall be enforced through the relevant provisions of law, in coordination with other federal departments and agencies, including the U.S. Department of Justice, U.S. Department of Homeland Security, U.S. Department of State, and U.S. Department of Transportation.

Effective Date

This Amended Order shall enter into effect at 12:01 a.m. EDT on April 14, 2022.

ATTACHMENT A: COMBINED PASSENGER DISCLOSURE AND ATTESTATION TO THE UNITED STATES OF AMERICA

This combined passenger disclosure and attestation fulfills the requirements of U.S. Centers for Disease Control and Prevention (CDC) Amended Orders: Requirements for Negative Pre-Departure COVID-19 Test Result or Documentation of Recovery from COVID-19 for All Airline or Other Aircraft Passengers Arriving into the United States from Any Foreign Country and Implementing Presidential Proclamation on Advancing the Safe Resumption of Global Travel During the COVID-19 Pandemic.⁴⁷ As directed by the CDC and the Transportation Security Administration (TSA), through Security Directive 1544-21-03 and Emergency Amendment 1546-21-02, and consistent with CDC's Order implementing the Proclamation, all airline or other aircraft operators must provide the following disclosures to all passengers prior to their boarding a flight from a foreign country to the United States.

⁴⁷ These requirements (e.g., proof of negative COVID-19 test result or recovery and proof of being fully vaccinated against COVID-19) do not apply to crewmembers of airlines or other aircraft operators if they are traveling for the purpose of operating the aircraft or repositioning (i.e., on “deadhead” status), provided their assignment is under an air carrier's or operator's occupational health and safety program that follows applicable industry standard protocols for the prevention of COVID-19 as set forth in relevant Safety Alerts for Operators (SAFOs) issued by the Federal Aviation Administration (FAA).

Airline and Aircraft Operator Disclosure Requirements

As required by United States federal law, all airlines or other aircraft operators must collect the passenger attestation on behalf of the U.S. Government.⁴⁸

⁴⁸ Section 1 and Section 2 of this attestation do not need to be completed by or on behalf of children under 2 years of age. The airline or other aircraft operator may permit them to board an aircraft without an attestation.

Required Proof of Negative COVID-19 Test Result or Recovery From COVID-19

All airlines and other aircraft operators must additionally confirm one of the following for each passenger ages 2 years or older prior to their boarding a flight to the United States from a foreign country:

1. A negative result for a Qualifying Test; or

2. Documentation of Recovery from COVID-19 in the form of a positive COVID-19 viral test on a sample taken no more than 90 days prior to departure and a letter from a licensed healthcare provider or public health official stating that the passenger has been cleared for travel.

Required Proof of COVID-19 Vaccination for Non-U.S. Citizen, Nonimmigrant Air Passengers

As directed by the TSA, including through a security directive or emergency amendment, all airlines and other aircraft operators must additionally confirm one of the following for each noncitizen who is a nonimmigrant passenger prior to their boarding a flight to the United States from a foreign country:

1. Proof of being Fully Vaccinated Against COVID-19; or

2. Proof of being excepted from the requirement to be Fully Vaccinated Against COVID-19.

OMB Control No.: 0920-1318

Expiration Date: 05/31/2022

PASSENGER DISCLOSURE AND ATTESTATION TO THE UNITED STATES OF AMERICA

The information provided below must be accurate and complete to the best of the individual's knowledge. Under United States federal law, the applicable portion of the attestation must be completed for each passenger ages 2 years or older and the attestation must be provided to the airline or aircraft operator prior to boarding a flight to the United States from a foreign country. Failure to complete and present the applicable portion of the attestation, or submitting false or misleading information, could result in delay of travel, denial of boarding, or denial of boarding on future travel, or put the passenger or other individuals at risk of harm, including serious bodily injury or death. Any passenger who fails to comply with these requirements may be subject to criminal penalties. Willfully providing false or misleading information may lead to criminal fines and imprisonment under, among other provisions, 18 U.S.C. 1001. Providing this information can help protect you, your friends and family, your communities, and the United States. CDC appreciates your cooperation.

One attestation form must be filled out for each passenger ages 2 years or older. The attestation may be filled out by the air passenger or on behalf of the air passenger by a legal representative, such as a parent or guardian.

—Section 1: All air passengers ages 2 years or older flying to the United States must complete Section 1.

—Section 2: Any passenger age 2 years or older who is not a U.S. citizen, U.S. national, lawful permanent resident, or an immigrant (“Covered Individual”) who is seeking to enter the United States by air travel must also complete Section 2 of this attestation and comply with applicable after travel requirements in Section 2.⁴⁹

⁴⁹ Any passenger who is not a U.S. citizen, U.S. national, lawful permanent resident, or an immigrant is referred to as a Covered Individual because they are covered by the Presidential Proclamation and CDC's Amended Order: Implementing Presidential Proclamation on Advancing the Safe Resumption of Global Travel During the COVID-19 Pandemic. This term does not apply to crewmembers of airlines or other aircraft operators if such crewmembers and operators adhere to all industry standard protocols for the prevention of COVID-19, as set forth in relevant guidance for crewmember health issued by the CDC or by the FAA in coordination with the CDC.

Public reporting burden of this collection of information is estimated to average 2 hours per response, including the time for reviewing instructions, searching existing data sources, gathering and maintaining the data needed, and completing and reviewing the collection of information. An agency may not conduct or sponsor, and a person is not required to respond to, a collection of information unless it displays a currently valid OMB Control Number. Comments regarding this burden estimate or any other aspect of this collection of information, including suggestions for reducing this burden, may be submitted to CDC/ATSDR Reports Clearance Officer, 1600 Clifton Road NE, MS D-74, Atlanta, Georgia 30333; ATTN: PRA 0920-1318.

I, __________am attesting on (Select one):

PRINT FIRST AND LAST NAME

☐ My own behalf ☐ Behalf of:

PRINT FIRST AND LAST NAME

SECTION 1: Requirement for Proof of Negative COVID-19 Test Result or Recovery From COVID-19 (check one box)

A. NEGATIVE PRE-DEPARTURE TEST RESULT

☐ I attest that I have (or the person I am attesting on behalf of has) received a negative pre-departure test result for COVID-19. The test was a viral test that was conducted on a specimen collected no more than 1 calendar day before the flight's departure.

B. DOCUMENTATION OF RECOVERY FROM COVID-19

☐ I attest that I have (or the person I am attesting on behalf of has) tested positive for COVID-19 and been cleared for travel by a licensed healthcare provider or public health official. The test was a viral test that was conducted on a specimen collected no more than 90 days before the flight's departure.

C. HUMANITARIAN EXEMPTION

☐ I attest that I have (or the person I am attesting on behalf of has) received a humanitarian exemption to the testing requirement, as determined by CDC and documented by an official U.S. Government letter.

SECTION 2: Requirement for Proof of COVID-19 Vaccination for Covered Individuals (Not a U.S. Citizen, U.S. National, Lawful Permanent Resident, or an Immigrant)

A. FULLY VACCINATED (If you check box A, skip to signature page and sign the form to complete Attestation.)

☐ I attest that I am (or the person I am attesting on behalf of is) fully vaccinated against COVID-19.

B. NOT FULLY VACCINATED

☐ I am not fully vaccinated and attest that I am (or the person I am attesting on behalf of is) excepted from the requirement to present Proof of Being Fully Vaccinated Against COVID-19 based on one of the following (check only one box, as applicable):

☐ Diplomatic and Official Foreign Government Travel (complete C only, then sign the form to complete Attestation).

☐ Child ages 2 through 17 years (complete D only, then sign the form to complete Attestation).

☐ Participant in certain COVID-19 vaccine trials, as determined by CDC (complete D only, then sign the form to complete Attestation).

☐ Medical contraindication to an accepted COVID-19 vaccine, as determined by CDC (complete E only, then sign the form to complete Attestation).

☐ Humanitarian or emergency exception, as determined by CDC and documented by an official U.S. Government letter (complete F only, then sign the form to complete Attestation).

☐ Valid nonimmigrant visa holder (excluding B-1 or B-2 visas) and citizen of a Foreign Country with Limited COVID-19 Vaccine Availability, as determined by CDC (complete F only, then sign the form to complete Attestation).

☐ Member of the U.S. Armed Forces or spouse or child (ages 2 through 17 years) of a member of the U.S. Armed Forces (proceed to signature line only, then sign the form to complete Attestation).

☐ Sea crewmember traveling pursuant to a C-1 and D nonimmigrant visa (complete F only, then sign the form to complete Attestation).

☐ Person whose entry is in the U.S. national interest as determined by the Secretary of State, the Secretary of Transportation, the Secretary of Homeland Security, or their designees (complete G only, then sign the form to complete Attestation).

C. EXCEPTION: Diplomat and Official Foreign Government Travel

☐ I attest that I am (or the person I am attesting on behalf of is) excepted from the requirement to present Proof of Being Fully Vaccinated Against COVID-19 and made the following arrangements (must check all boxes in C and then sign Attestation).

☐ To be tested with a COVID-19 viral test 3-5 days after arriving in the United States, unless I have (or this person has) documentation of having recovered from COVID-19 in the past 90 days;

☐ To self-quarantine for a full 5 calendar days following arrival, even if the result of my (or this person's) post-arrival viral test is negative, except during periods when my (or this person's) attendance is required to carry out the purposes of the diplomatic or official foreign government travel (e.g., to attend official meetings or events), unless I have (or this person has) documentation of having recovered from COVID-19 in the past 90 days; and

☐ To self-isolate for a full 5 calendar days and properly wear a well-fitting mask any time I am (or this person is) around others during my (or this person's) isolation period and for an additional 5 days after ending isolation,

• if the result of the post-arrival viral test is positive; or

• if I develop (or this person develops) COVID-19 symptoms.

D. EXCEPTIONS

• Child ages 2 through 17 years

• Participant in certain COVID-19 vaccine trials as determined by CDC

☐ I attest that I am (or the person I am attesting on behalf of is) excepted from the requirement to present Proof of Being Fully Vaccinated Against COVID-19 and made the following arrangements (must check all boxes in D and then sign Attestation).

☐ To be tested with a COVID-19 viral test 3-5 days after arriving in the United States, unless I have (or the person has) documentation of having recovered from COVID-19 in the past 90 days;

☐ To self-isolate for a full 5 calendar days and properly wear a well-fitting mask any time I am (or this person is) around others during my (or this person's) isolation period and for an additional 5 days after ending isolation,

• if the result of the post-arrival viral test is positive, or

• if I develop (or this person develops) COVID-19 symptoms.

E. EXCEPTION: Medical Contraindication to an Accepted COVID-19 Vaccine as Determined by CDC

☐ I attest that I am (or the person I am attesting on behalf of is) excepted from the requirement to present Proof of Being Fully Vaccinated Against COVID-19 and made the following arrangements (must check all boxes in E and then sign Attestation).

☐ To be tested with a COVID-19 viral test 3-5 days after arriving in the United States, unless I have (or this person has) documentation of having recovered from COVID-19 in the past 90 days;

☐ To self-quarantine for a full 5 calendar days, even if the result of my (or this person's) post-arrival viral test is negative, unless I have (or this person has) documentation of having recovered from COVID-19 in the past 90 days; and

☐ To self-isolate for a full 5 calendar days and properly wear a well-fitting mask any time I am (or this person is) around others during my (or this person's) isolation period and for an additional 5 days after ending isolation,

• if the result of the post-arrival viral test is positive, or

• if I develop (or this person develops) COVID-19 symptoms.

F. EXCEPTIONS

• Humanitarian or emergency exception as determined by CDC;

• Valid nonimmigrant visa holder (excluding B-1 or B-2 visas) and citizen of a Foreign Country with Limited COVID-19 Vaccine Availability as determined by CDC; or

• Sea crewmember traveling pursuant to a C-1 and D nonimmigrant visa

☐ I attest that I am (or the person I am attesting on behalf of is) excepted from the requirement to present Proof of Being Fully Vaccinated Against COVID-19 and made the following arrangements (must check all boxes in F and then sign Attestation).

☐ To be tested with a COVID-19 viral test 3-5 days after arriving in the United States, unless I have (or this person has) documentation of having recovered from COVID-19 in the past 90 days;

☐ To self-quarantine for a full 5 calendar days, even if the result of my (or this person's) post-arrival viral test is negative, unless I have (or this person has) documentation of having recovered from COVID-19 in the past 90 days;

☐ To self-isolate for a full 5 calendar days and properly wear a well-fitting mask any time I am (or this person is) around others during my (or this person's) isolation period and for an additional 5 days after ending isolation,

• if the result of the post-arrival viral test is positive; or

• if I develop (or this person develops) COVID-19 symptoms; and

☐ To become fully vaccinated against COVID-19 within 60 days of arriving in the United States, or as soon thereafter as is medically appropriate, if intending to stay in the United States for more than 60 days.

G. EXCEPTION: Person Whose Entry Is in the U.S. National Interest

☐ I am (or the person I am attesting on behalf of is) excepted from the requirement to present Proof of Being Fully Vaccinated Against COVID-19 and made the following arrangements (must check all boxes in G and then proceed to sign Attestation).

☐ To be tested with a COVID-19 viral test 3-5 days after arriving in the United States, unless I have (or this person has) documentation of having recovered from COVID-19 in the past 90 days;

☐ To self-quarantine for a full 5 calendar days, even if the result of my (or this person's) post-arrival viral test is negative, except during periods when my (or this person's) attendance is required to carry out the purposes of the travel for the U.S. national interest (e.g., to attend official meetings or events), unless I have (or this person has) documentation of having recovered from COVID-19 in the past 90 days.

☐ To self-isolate for a full 5 calendar days and properly wear a well-fitting mask any time I am (or this person is) around others during my (or this person's) isolation period and for an additional 5 days after ending isolation

• if the result of the post-arrival viral test is positive, or

• if I develop (or this person develops) COVID-19 symptoms; and

☐ To become fully vaccinated against COVID-19 within 60 days of arriving in the United States, or as soon thereafter as is medically appropriate, if intending to stay in the United States for more than 60 days.

____________Print Name

____________Signature

_______Date

Privacy Act Statement for Travelers Relating to the Requirement To Provide Proof of a Negative COVID-19 Test Result

The U.S. Centers for Disease Control and Prevention (CDC) requires airlines and other aircraft operators to collect this information pursuant to 42 CFR 71.20 and 71.31(b), as authorized by 42 U.S.C. 264. Providing this information is mandatory for all passengers arriving by aircraft into the United States. Failure to provide this information may prevent you from boarding the plane. Additionally, passengers will be required to attest to providing complete and accurate information, and failure to do so may lead to other consequences, including criminal penalties. CDC will use this information to help prevent the introduction, transmission, and spread of communicable diseases by performing contact tracing investigations and notifying exposed individuals and public health authorities; and for health education, treatment, prophylaxis, or other appropriate public health interventions, including the implementation of travel restrictions.

The Privacy Act of 1974, 5 U.S.C. 552a, governs the collection and use of this information. The information maintained by CDC will be covered by CDC's System of Records No. 09-20-0171, Quarantine- and Traveler-Related Activities, Including Records for Contact Tracing Investigation and Notification under 42 CFR parts 70 and 71. See 72 FR 70867 (Dec. 13, 2007), as amended by 76 FR 4485 (Jan. 25, 2011) and 83 FR 6591 (Feb. 14, 2018). CDC will only disclose information from the system outside the CDC and the U.S. Department of Health and Human Services as the Privacy Act permits, including in accordance with the routine uses published for this system in the Federal Register, and as authorized by law. Such lawful purposes may include, but are not limited to, sharing identifiable information with state and local public health departments, and other cooperating authorities. CDC and cooperating authorities will retain, use, delete, or otherwise destroy the designated information in accordance with federal law and the System of Records Notice (SORN) set forth above. You may contact the system manager at dgmqpolicyoffice@cdc.gov or by mailing Policy Office, Division of Global Migration and Quarantine, Centers for Disease Control and Prevention, 1600 Clifton Road NE, MS H16-4, Atlanta, GA 30329, if you have questions about CDC's use of your data.

Authority

The authority for the Presidential Proclamation is Sections 1182(f) and 1185(a)(1) of Title 8, and Section 301 of Title 3, United States Code. CDC's Order is issued pursuant to the Presidential Proclamation.

Sherri Berger,
Chief of Staff, Centers for Disease Control and Prevention.

[FR Doc. 2022-07450 Filed 4-4-22; 4:15 pm]

BILLING CODE 4163-18-P